DEPARTMENT OF AGRICULTURE

Forest Service

Manti-La Sal National Forest Land and Resource Management Plan Revision

Manti-La Sal National Forest in Utah, Juab, Emery, Carbon, Sanpete, Grand, San Juan and Sevier counties in Utah, and Mesa and Montrose counties in Colorado.

AGENCY: Forest Service, USDA.

ACTION: Notice of Adjustment to Federal Register Notice Vol. 67, No. 86, p. 22397, May 3, 2002, and Vol. 69, No. 205, p. 62244, October 25, 2004, and transition to the 2005 Planning Rule at 36 CFR 219 (FR, Vol. 70, No. 3. / January 5, 2005, 1023).

SUMMARY: The Manti-La Sal National Forest (Forest) will exercise its option to adjust the land management plan revision process from compliance with the 1982 planning regulations, to conform to new planning regulations adopted in January 2005. This adjustment will have the following effects:

1. The 2005 Planning Rule redefines forest plans to be more strategic and flexible to better facilitate adaptive management and public collaboration.

2. The 2005 Planning Rule focuses more on the goals of ecological, social, and economic sustainability and less on prescriptive means of producing goods and services.

3. The Responsible Official who will approve the final plan will be the Forest Supervisor instead of the Regional Forester.

4. The Forest will establish an Environmental Management System (EMS) (per ISO 14001:2004(E)) prior to approval of the revised forest plan.

5. The emphasis of public involvement will be a collaborative effort between the public and the Forest Service to incorporate the most desirable management options into a single broadly supported management direction package that will become the forest plan.

6. Administrative review will change from a post-decision appeals process to a pre-decision objection process.

7. Because the Forest will not be preparing an Environmental Impact Statement (EIS) for revision of the forest plan, interim management strategies will be developed for the fourteen river segments identified as eligible for inclusion in the Wild and Scenic River (WSR) System. The suitability of these river segments for inclusion in the WSR System will be addressed in an appropriate environmental document after the revised forest plan is approved.

8. Because an environmental impact statement will not be prepared for this revision, oil and gas leasing decisions will not be made. Instead, the revised forest plan will include general guidelines for mineral operations, including oil and gas, which will be considered as appropriate for areas currently available for leasing to protect resource values while providing appropriate access for exploration and development activities. Decisions regarding areas administratively available for lease and lease stipulations will be addressed in a separate environmental document(s) prepared either concurrently with the revision process or following approval of the revised forest plan.

Public Involvement: Public participation and collaboration (including more than 34 public meetings) has been ongoing. Current information and details of public participation opportunities are posted on the Forest Web site at http://www.fs.fed.us/r4/mantilasal/projects. Contact Linda Crawley at (435) 636-3558, or e-mail lcrawley@fs.fed.us to be added to the forest plan revision mailing list.

ADDRESSES: Manti-La Sal National Forest, 599 W. Price River Dr., Price, UT 84501.

FOR FURTHER INFORMATION CONTACT: Marlene DePietro, Planning and Recreation Group Leader, Manti-La Sal National Forest, phone (435) 636-3539 or email: mdepietro@fs.fed.us.

DATES: Transition is effective immediately upon publication of this notice in the Federal Register.

Responsible Official: Alice B. Carlton, Forest Supervisor, Manti-La Sal National Forest, 599 W. Price River Dr., Price, UT 84501.

SUPPLEMENTARY INFORMATION: On May 3, 2002, the Manti-La Sal National Forest published a Notice of Intent to revise the Land and Resource Management Plan (Forest Plan) (FR Vol. 67, No. 86, p. 22397, May 3, 2002). This notice initiated revision under the 1982 planning regulations, but advised the public that the Forest would seriously consider switching to the new planning regulations once they were finalized This notice also outlined the initial steps of the revision process including gathering information, organizing the revision team, developing resource inventories, and establishing a mailing list.

During 2002 and 2003, cooperating agency status was established through Memorandums of Understanding with six of the ten counties within which the Forest lies. Ten meetings were held throughout central and southeastern Utah (February to March 2003) to explain the planning process and to discuss existing uses of the Forest and current management issues. Nine public meetings were held in May 2004 to discuss preliminary needs for change in the current Forest Plan, Wild and Scenic Rivers eligibility and suitability, and the inventory of undeveloped and unroaded areas.

On October 25, 2004, the Forest formally initiated the land management plan revision process with release of a Preliminary Analysis of the Management Situation and publication of a Notice of Intent to prepare an environmental impact statement for plan revision (FR Vol. 69, No. 205, p. 62244). Six open houses were held during November 2004 to discuss the Preliminary Analysis of the Management Situation and the Notice of Intent. These documents focused the revision process on those areas of the Forest where clearer management direction is most needed at this time.

During September 2005, two workshops and an open house were held to discuss desired conditions for the Forest. Six workshops were held during November 2005 to review current Forest inventories and discuss suitable uses on the Forest.

To meet the requirements of the 2005 Planning Rule, the 2004 Analysis of the Management Situation, combined with the Forest's Rapid Assessment (March 2005), Fire Regime Condition Class Assessment (February 2005), and various resource specialist white papers will serve as the Forest's Comprehensive Evaluation Report.

Additional opportunities will be provided for the public to review intermediate products, provide comment, or participate in collaborative stakeholder activities. The focal points of future collaborative work will be: (1) Review of revised desired conditions, (2) identification and development of objectives to aid in attaining or maintaining desired conditions, (3) review of suitable land uses, (4) development and review of design criteria, and (5) development and review of the plan monitoring framework. This phase of collaboration should be completed by the spring of 2006. The remaining forest plan revision schedule will be approximately as follows:

Draft Environmental Management System | Spring 2006.
Release of Proposed Forest Plan and start of 90-day public comment period | Summer 2006.
Release of Final Plan and start of 30-day objection period | Fall 2006.
Final decision and start of plan implementation | Winter 2006.

Dated: January 30, 2006.
Rod Player,
Acting Forest Supervisor, Manti-La Sal National Forest.

[FR Doc. E6-1465 Filed 2-2-06; 8:45 am]

BILLING CODE 3410-11-P